DEPARTMENT OF THE INTERIOR

Bureau of Land Management

[LLES93000-L51100000-GA0000-241AOO, KYES-53865]

Notice of Availability of the Environmental Assessment and Notice of Public Hearing Federal Coal Lease Application KYES-53865, Kentucky

AGENCY: Bureau of Land Management, Interior.

ACTION: Notice of Availability and Notice of Public Hearing.

SUMMARY: In accordance with Federal coal management regulations, the Bledsoe Coal Corporation, Federal Coal Lease-By-Application (LBA) Environmental Assessment (EA) is available for public review and comment. The United States Department of the Interior, Bureau of Land Management (BLM) Southeastern States Field Office will hold a public hearing to receive comments on the EA, Fair Market Value (FMV), and Maximum Economic Recovery (MER) of the coal resources for the Bledsoe/Beechfork Mine LBA Tract, serial number KYES-53865.

DATES: The public hearing will be held on June 25, 2013, at 6 p.m. Written comments should be received no later than July 25, 2013.

ADDRESSES: The public hearing will be held at the Town Hall, 15 South Center Street, Hyden, Kentucky. Copies of the EA and the unsigned Finding of No Significant Impact (FONSI) are available at the Southeastern States Field Office. The hearing will be advertised in the Leslie County News located in Hyden, Kentucky. Written comments on the EA, FMV, and MER should be addressed to Michael W. Glasson, BLM Eastern States, Division of Lands and Minerals, Mail Stop 4238, 20 M Street SE., Washington, DC 20003. Comments may be emailed to mglasson@blm.gov. Please note “Coal Lease By Application KYES-53865” in the subject line for all emails or mailing envelops.

FOR FURTHER INFORMATION CONTACT: Michael W. Glasson, at 202-912-7723, email: mglasson@blm.gov. Information about the EA and the unsigned Decision Notice/Finding of No Significant Impact can be obtained by contacting Bruce Dawson, Southeastern States Field Office Manager, phone 601-977-5450. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The EA addresses the cultural, socioeconomic, environmental, and cumulative impacts that would likely result from leasing these coal lands. The lands included in the Bledsoe/Beechfork Mine LBA Tract are located in Leslie County, Kentucky, approximately 10 miles south of Hyden, Kentucky, on National Forest Service lands, described as follows: A certain tract or parcel of land located in Leslie and Harlan Counties, Kentucky, and situated on Beech Fork and Caywood Creek thereof, and Upper Double Branch and Trace Branch, both waters of Shells Laurel of Greasy Fork, and more particularly described as follows: Beginning at a marked sycamore standing on the northeast edge of Beech Fork, about 400′ below the mouth of Caywood Creek, same being the 2nd corner of the George Hoskins 100 Acre Grant No. 59799. Thence running with the first line of said Hoskins grant reversed N 27°31′04″ E a distance of 296.00 feet to a stake in said line and at its point of intersection with the 9th line of the Jacob Gross 100 Acre Grant No. 59793. Thence running with the said 9th line of said Gross grant reversed N 72°57′26″ W a distance of 15.17 feet to a stake in said line and at its point of intersection with the 1st line of the Edmond Burkhart 100 Acre Grant No. 57368. Thence running with the same 1st line of said Burkhart grant N 22°03′ 37″ E a distance of 687.53 feet crossing the spur between Beech Fork and Fern Branch thereof to a marked forked beech, witnessed by a chestnut oak and a white oak marked as bearing trees, the 2nd corner thereto. Thence running with the 2nd course thereof N 50°39′17″ E a distance of 881.17 feet to a stake, witnessed by a beech and hickory marked as bearing trees, the 3rd corner thereto. Thence running with the third line thereof N 08°33′57″ E a distance of 1343.35 feet to a large marked chestnut, witnessed by a white oak, chestnut, and black gum marked as bearing trees, the 4th corner thereto. Thence running with the 4th course, N 38°37′46″ E a distance of 1280.13 feet to a stake in said line and at its point of intersection with the 4th line of the aforesaid Jacob Gross 100 Acre Grant No. 59793. Thence running with the 4th course there of S 80°22′06″ E a distance of 236.97 feet to a stake on top of the divide between Fern Branch and the left hand fork of Caywood, the 4th corner thereto. Thence running up and with the crest of said divide as it meanders S 01°19′32″ E a distance of 6204.99 feet to a drilled hole in the top of an oval shaped rock on the east bank of the original channel of Beech Fork about 175 feet below the mouth of Coal Bank Hollow. Thence S 76°52′55″ W a distance of 217.84 feet crossing Highway No. 421 to a stake in the center of the present channel of Beech Fork. Thence running down the said Beech Fork and with its center thereof as it meanders N 51°47′22″ W a distance of 116.98′ to a cross on a rock. Thence N 72°27′07″ W a distance of 243.24 feet to a cross on a rock. Thence N 49°12′20″ W a distance of 122.27 feet to a cross on a rock in the mouth of Mill Hollow. Thence N 10° 12′08″ E a distance of 134.53 feet to a cross on a rock. Thence N 26°31′23″ W a distance of 463.49 feet to a cross on a rock. Thence N 42°27′10″ W a distance of 249.67 feet to a cross on a rock. Thence N 06°56′45″ E a distance of 252.81 feet to a cross on a rock. Thence N 13°40′23″ W a distance of 530.41 feet to a cross on a rock. Thence N 28°51′32″ W a distance of 309.98 feet to a stake in the mouth of Caywood Branch. Thence N 59d 12′23″ W a distance of 431.44 feet to a stake. Thence N 81°46′41″ W a distance of 209.69 feet to a cross on a rock. Thence N 60°52′22″ W a distance of 411.96′ to a stake. Thence N 78°41′51″ W a distance of 280.93 feet to the point of beginning. Being the western portion of the United States Forestry Service Tract No. 3094Bd, and being the remainder of land not included in the Caywood Branch Coal Lease, TVA Tract No. XEKCR-39 L (Parcel NO. 1) and having an area containing 174.36 acres, more or less.

Bledsoe Coal Corporation requested the Bledsoe/Beechfork Mine LBA Tract to mine the underground coal reserves as an extension from their existing Beechfork Mine. The tract has one minable coal bed, the Fire Clay bed. The minable portions of the coal bed in this area are around 2.5-3.0 feet in thickness. The tract contains more than 400,000 tons of recoverable high-volatile `A' bituminous coal. The coal quality in the Fire Clay coal bed on an “as received basis” is as follows: 12,900 Btu/lb., 6.5 percent moisture, 7.2 percent ash, 34.6 percent volatile matter, 51.5 percent fixed carbon and 1.02 percent sulfur. The public is invited to the meeting to make public and/or written comments on the environmental implications of leasing the proposed tract, the FMV, and MER of the tract.

Proprietary data marked as confidential may be submitted to the BLM in response to the solicitation of public comments. Data so marked shall be treated in accordance with the laws and regulations governing confidentiality of such information. Before including your address, phone number, email address, or other personal identifying information in your comment, you should be aware that your entire comment—including your personal identifying information—may be made publicly available at any time. While you can ask us in your comment to withhold your personal identifying information from public review, we cannot guarantee that we will be able to do so. A copy of the comments submitted by the public on the EA, FMV and MER, except those portions identified as proprietary by the author and meeting exemptions stated in the Freedom of Information Act, will be available for review at the BLM Eastern States, 7450 Boston Blvd., Springfield, Virginia.

Comments should address, but need not be limited to the following:

1. The quality of the coal resource;

2. The mining methods or methods which would achieve MER of the coal, including specifications of seams to be mined and the most desirable timing and rate of production;

3. Whether this tract is likely to be mined as part of an existing mine and therefore should be evaluated on a realistic incremental basis, in relation to the existing mine to which it has the greatest value;

4. Whether the tract should be evaluated as part of a potential larger mining unit and re-evaluated as a portion of a new potential mine (i.e., a tract which does not in itself form a logical mining unit);

5. Restrictions to mining that may affect coal recovery;

6. The price that the mined coal would bring when sold;

7. Costs, including mining and reclamation, of producing the coal;

8. The timing and annual production tonnage;

9. The percentage rate at which anticipated income streams should be discounted, either with inflation or in the absence of inflation, in which case the anticipated rate of inflation should be given;

10. Depreciation, depletion, amortization and other tax accounting factors;

11. The value of any surface estate where held privately;

12. Documented information on the terms and conditions of recent and similar coal land transactions in the lease sale area; and

13. Any comparable sales data of similar coal lands; mining conditions, and coal quantities.

Substantive comments, whether written or oral, will receive equal consideration prior to any lease offering.

The foregoing is published in the Federal Register pursuant to 43 CFR Subparts 3422 and 3425.

Bruce Dawson,
BLM Southeastern States Field Office.

[FR Doc. 2013-14981 Filed 6-21-13; 8:45 am]

BILLING CODE 4310-GJ-P